FEDERAL COMMUNICATIONS COMMISSION

47 CFR Part 73

[DA 02-1874; MB Docket No. 02-209, RM-10512; MB Docket No. 02-210, RM-10510; MB Docket No. 02-211, RM-10511]

Radio Broadcasting Services; Greenwood, MS; Hyannis, NE; and Wall, SD

AGENCY: Federal Communications Commission.

ACTION: Proposed rule.

SUMMARY: This document proposes three new allotments in Greenwood, Mississippi, Hyannis Nebraska, and Wall, South Dakota. The Audio Division requests comment on a petition filed by David P. Garland proposing the allotment of Channel 277A at Greenwood, Mississippi, as the community's fourth local aural transmission service. Channel 277A can be allotted to Greenwood in compliance with the Commission's minimum distance separation requirements with a site restriction of 10.1 kilometers (6.3 miles) east to avoid a short-spacing to an application site of Station KZYQ, Channel 278C2, Lake Village, Arkansas. The coordinates for Channel 277A at Greenwood are 33-32-19 North Latitude and 90-04-27 West Longitude. See Supplementary Information, infra.

DATES: Comments must be filed on or before September 23, 2002, and reply comments on or before October 8, 2002.

ADDRESSES: Federal Communications Commission, 445 Twelfth Street, SW., Washington, DC 20554. In addition to filing comments with the FCC, interested parties should serve the petitioner, his counsel, or consultant, as follows: David P. Garland, 1110 Hackney Street, Houston, Texas, 77023 (petitioner); John M. Pelkey, Garvey, Schubert & Barer, 5th Floor, 1000 Potomac Street, NW., Washington, DC 20007 (Counsel for Grant County Broadcasters and Wall Radio Broadcasters).

FOR FURTHER INFORMATION CONTACT: Rolanda F. Smith, Media Bureau, (202) 418-2180.

SUPPLEMENTARY INFORMATION: This is a synopsis of the Commission's Notice of Proposed Rule Making, MB Docket Nos. 02-209, 02-210, and 02-211, adopted July 24, 2002, and released August 2, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division requests comments on a petition filed by Grant County Broadcasters proposing the allotment of Channel 250C1 at Hyannis, Nebraska, as the community's first local aural transmission service. Channel 250C1 can be allotted to Hyannis in compliance with the Commission's minimum distance separation requirements at city reference coordinates. The coordinates for Channel 250C1 at Hyannis are 42-00-02 North Latitude and 101-45-41 West Longitude.

The Audio Division requests comments on a petition filed by Wall Radio Broadcasters proposing the allotment of Channel 288C at Wall, South Dakota, as the community's first local aural transmission service. Channel 288C can be allotted to Wall in compliance with the Commission's minimum distance separation requirements at city reference coordinates.

The coordinates for Channel 288C at Wall are 43-59-47 North Latitude and 102-13-07 West Longitude.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Mississippi, is amended by adding Channel 277A at Greenwood.

3. Section 73.202(b), the Table of FM Allotments under Nebraska, is amended by adding Hyannis, Channel 250C1.

4. Section 73.202(b), the Table of FM Allotments under South Dakota, is amended by adding Wall, Channel 288C.

Federal Communications Commission.
John A. Karousos,
Assistant Chief, Audio Division, Media Bureau.

[FR Doc. 02-20594 Filed 8-13-02; 8:45 am]

BILLING CODE 6712-01-P